DEPARTMENT OF COMMERCE

Minority Business Development Agency

[Docket No. 030910229-3240-02]

Minority Business Financing

AGENCY: Minority Business Development Agency, Commerce.

ACTION: Notice.

SUMMARY: The Minority Business Development Agency (MBDA) publishes this notice to extend the comment period on a notice requesting comments on the direction of minority business financing published on Monday, September 22, 2003 (68 FR 55032). MBDA extends the comment period by 15 days to provide the public more time to submit comments. The new deadline for comments is October 22, 2003.

DATES: All comments must be received or postmarked by October 22, 2003.

ADDRESSES: Comments may be mailed to the following address: Ms. Anita Cooke Wells, Chief, Office of Business Development, HCHB, Room 5063, Minority Business Development Agency, U.S. Department of Commerce, 14th Street and Constitution Avenue, NW., Washington, DC 20230, or e-mailed to: awells@mbda.gov.

FOR FURTHER INFORMATION CONTACT: For further information, contact Ms. Anita Cooke Wells, Chief, Office of Business Development, at (202) 482-1940.

Dated: September 26, 2003.
Ronald N. Langston,
National Director, Minority Business Development Agency.

[FR Doc. 03-24879 Filed 9-30-03; 8:45 am]

BILLING CODE 3510-21-P